DEPARTMENT OF HEALTH AND HUMAN SERVICES

National Institutes of Health

Center for Scientific Review; Amended Notice of Meeting

Notice is hereby given of a change in the meeting of the Center for Scientific Review Special Emphasis Panel, June 29, 2006, 8:30 a.m., to June 30, 2006, 5 p.m., One Washington Circle Hotel, One Washington Circle, Washington, DC 20037 which was published in the Federal Register on June 16, 2006, 71 FR 34951.

The meeting will be held at the Morrison House, 116 S. Alfred Street, Alexandria, VA, 22314. The meeting dates and time remain the same. The meeting is closed to the public.

Dated: June 20, 2006.
Linda Payne,
Acting Director, Office of Federal Advisory Committee Policy.

[FR Doc. 06-5724 Filed 6-27-06; 8:45 am]

BILLING CODE 4140-01-M